DEPARTMENT OF LABOR

Employment and Training Administration

[TA-W-80,515]

AI-Shreveport, LLC A Subsidiary of Android Industries Including On-Site Leased Workers From Career Adventures, Inc. Shreveport, Louisiana; Amended Certification Regarding Eligibility To Apply for Worker Adjustment Assistance

In accordance with Section 223 of the Trade Act of 1974, as amended (“Act”), 19 U.S.C. 2273, the Department of Labor issued a Certification of Eligibility to Apply for Worker Adjustment Assistance on November 22, 2011, applicable to workers of AI-Shreveport, LLC, a subsidiary of Android Industries, Shreveport, Louisiana. The Notice of determination was published in the Federal Register on December 6, 2011 (76 FR 76186). The workers are engaged in the production of automotive subassemblies.

At the request of the State Workforce Office, the Department reviewed the certification for workers of the subject firm.

The company reports that workers from Career Adventures, Inc. were employed on-site at the subject firm. The Department has determined that these workers were sufficiently under the control of the subject firm to be considered leased workers.

Based on these findings, the Department is amending this certification to include workers leased from Career Adventures, Inc., working on-site at the Shreveport, Louisiana, location of AI-Shreveport, LLC, a subsidiary of Android Industries.

The amended notice applicable to TA-W-80,515 is hereby issued as follows:

All workers AI-Shreveport, LLC, a subsidiary of Android Industries, including on-site leased workers from Career Adventures, Inc., Shreveport, Louisiana, who became totally or partially separated from employment on or after October 28, 2010, through November 22, 2013, and all workers in the group threatened with total or partial separation from employment on November 22, 2011 through November 22, 2013, are eligible to apply for adjustment assistance under Chapter 2 of Title II of the Trade Act of 1974, as amended.

Signed in Washington, DC, this 11th day of May, 2012.
Del Min Amy Chen,
Certifying Officer, Office of Trade Adjustment Assistance.

[FR Doc. 2012-12887 Filed 5-25-12; 8:45 am]

BILLING CODE 4510-FN-P